DEPARTMENT OF COMMERCE

National Institute of Standards and Technology

[Docket No. 180306249-8249-01]

National Cybersecurity Center of Excellence (NCCoE) Energy Sector Asset Management

AGENCY: National Institute of Standards and Technology, Department of Commerce.

ACTION: Notice.

SUMMARY: The National Institute of Standards and Technology (NIST) invites organizations to provide products and technical expertise to support and demonstrate security platforms for the Energy Sector Asset Management Project. This notice is the initial step for the National Cybersecurity Center of Excellence (NCCoE) in collaborating with technology companies to address cybersecurity challenges identified under the Energy Sector Asset Management use case. Participation in the use case is open to all interested organizations.

DATES: Interested parties must contact NIST to request a letter of interest template to be completed and submitted to NIST. Letters of interest will be accepted on a first come, first served basis. Collaborative activities will commence as soon as enough completed and signed letters of interest have been returned to address all the necessary components and capabilities, but no earlier than April 25, 2018. When the use case has been completed, NIST will post a notice on the NCCoE Energy Sector Asset Management use case website at: https://nccoe.nist.gov/projects/use-cases/energy-sector/asset-management announcing the completion of the use case and informing the public that it will no longer accept letters of interest for this use case.

ADDRESSES: The NCCoE is located at 9700 Great Seneca Highway, Rockville, MD 20850. Letters of interest must be submitted to energy_nccoe@nist.gov or via hardcopy to National Institute of Standards and Technology, NCCoE; 9700 Great Seneca Highway, Rockville, MD 20850. Organizations whose letters of interest are accepted in accordance with the process set forth in the SUPPLEMENTARY INFORMATION section of this notice will be asked to sign a consortium Cooperative Research and Development Agreement (CRADA) with NIST. An NCCoE consortium CRADA template can be found at: http://nccoe.nist.gov/node/138.

FOR FURTHER INFORMATION CONTACT: Jim McCarthy via email to energy_nccoe@nist.gov; by telephone 301-975-0228; or by mail to National Institute of Standards and Technology, NCCoE; 9700 Great Seneca Highway, Rockville, MD 20850. Additional details about the Energy Sector Asset Management use case are available at: https://nccoe.nist.gov/projects/use-cases/energy-sector.

SUPPLEMENTARY INFORMATION:

Background: The NCCoE, part of NIST, is a public-private collaboration for accelerating the widespread adoption of integrated cybersecurity tools and technologies. The NCCoE brings together experts from industry, government, and academia under one roof to develop practical, interoperable cybersecurity approaches that address the real-world needs of complex Information Technology (IT). By accelerating dissemination and use of these integrated tools and technologies for protecting IT assets, the NCCoE will enhance trust in U.S. IT communications, data, and storage systems; reduce risk for companies and individuals using IT systems; and encourage development of innovative, job-creating cybersecurity products and services.

Process: NIST is soliciting responses from all sources of relevant security capabilities (see below) to enter into a Cooperative Research and Development Agreement (CRADA) to provide products and technical expertise to support and demonstrate platforms for the Energy Sector Asset Management use case. The full use case can be viewed at: https://nccoe.nist.gov/projects/use-cases/energy-sector/asset-management.

Interested parties should contact NIST using the information provided in the FOR FURTHER INFORMATION CONTACT section of this notice. NIST will then provide each interested party with a letter of interest template, which the party must complete, certify that it is accurate, and submit to NIST. NIST will contact interested parties if there are questions regarding the responsiveness of the letters of interest to the use case objective or requirements identified below. NIST will select participants who have submitted complete letters of interest on a first come, first served basis within each category of product components or capabilities listed below up to the number of participants in each category necessary to carry out this use case. However, there may be continuing opportunity to participate even after initial activity commences. Selected participants will be required to enter into a consortium CRADA with NIST (for reference, see ADDRESSES section above). NIST published a notice in the Federal Register on October 19, 2012 (77 FR 64314) inviting U.S. companies to enter into a National Cybersecurity Excellence Partnerships (NCEPs) in furtherance of the NCCoE. For this demonstration project, NCEP partners will not be given priority for participation.

Use case Objective: The objective of this use case is to provide guidance on how energy companies may enhance OT (Operational Technology)/ICS (Industrial Controls System) asset management by leveraging capabilities that may already exist in an operating environment or by implementing new ones. A detailed description of the Energy Sector Asset Management use case is available at: https://nccoe.nist.gov/projects/use-cases/energy-sector/asset-management.

Requirements: Each responding organization's letter of interest should identify which security platform component(s) or capability(ies) it is offering. Letters of interest should not include company proprietary information, all components and capabilities must be commercially available, and all products must be able to specifically address OT/ICS environments in order to be considered for collaboration on this project. Components are listed in section 3 of the Energy Sector Asset Management use case (for reference, please see the link in the PROCESS section above) and include, but are not limited to:

• OT/ICS-specific asset discovery and management tools

• Reliable/secure/encrypted communication devices

• Cybersecurity event/attack detection capability

• Alerting capability (e.g. Security Information and Event Management or SIEM)

Each responding organization's letter of interest should identify how their products address one or more of the following desired solution characteristics in section 3 of the Energy Sector Asset Management use case (for reference, please see the link in the PROCESS section above):

• OT/ICS asset inventory (to include devices using serial connections)

• high-speed communication mechanisms for remote asset management

• reliable/secure/encrypted communications

• continuous asset monitoring

• log analysis and correlation

• cybersecurity event/attack detection

• patch level information

Responding organizations need to understand and, in their letters of interest, commit to provide:

1. Access for all participants' project teams to component interfaces and the organization's experts necessary to make functional connections among security platform components.

2. Support for development and demonstration of the Energy Sector Asset Management use case in NCCoE facilities which will be conducted in a manner consistent with the following standards and guidance: NIST Special Publications 1800-5 (DRAFT); 1800-7 (DRAFT); 800-40; 800-53;800-82; 800-160; 800-52; NIST Cybersecurity Framework; NIST Cryptographic Standards and Guidelines; ISO/IEC 27001 Information security management; and NERC CIP 002-5-014-2.

Additional details about the Energy Sector Asset Management use case are available at: https://nccoe.nist.gov/projects/use-cases/energy-sector/asset-management.

NIST cannot guarantee that all of the products proposed by respondents will be used in the demonstration. Each prospective participant will be expected to work collaboratively with NIST staff and other project participants under the terms of the consortium CRADA in the development of the Energy Sector Asset Management use case. Prospective participants' contribution to the collaborative effort will include assistance in establishing the necessary interface functionality, connection and set-up capabilities and procedures, demonstration harnesses, environmental and safety conditions for use, integrated platform user instructions, and demonstration plans and scripts necessary to demonstrate the desired capabilities. Each participant will train NIST personnel, as necessary, to operate its product in capability demonstrations. Following successful demonstrations, NIST will publish a description of the security platform and its performance characteristics sufficient to permit other organizations to develop and deploy security platforms that meet the security objectives of the Energy Sector Asset Management use case. These descriptions will be public information.

Under the terms of the consortium CRADA, NIST will support development of interfaces among participants' products by providing IT infrastructure, laboratory facilities, office facilities, collaboration facilities, and staff support to component composition, security platform documentation, and demonstration activities.

The dates of the demonstration of the Energy Sector Asset Management use case capability will be announced on the NCCoE website at least two weeks in advance at http://nccoe.nist.gov/. The expected outcome of the demonstration is to improve security across the energy sector. Participating organizations will gain from the knowledge that their products are interoperable with other participants' offerings.

For additional information on the NCCoE governance, business processes, and NCCoE operational structure, visit the NCCoE website http://nccoe.nist.gov/.

Kevin Kimball,
NIST Chief of Staff.

[FR Doc. 2018-06024 Filed 3-23-18; 8:45 am]

BILLING CODE 3510-13-P